ENVIRONMENTAL PROTECTION AGENCY

40 CFR Part 52

[R06-OAR-2005-OK-0001; FRL-7953-8]

Approval and Promulgation of Air Quality Implementation Plans; Oklahoma; Attainment Demonstration for the Central Oklahoma Early Action Compact Area

Correction

In rule document 05-16192 beginning on page 48078 in the issue of Tuesday, August 16, 2005, make the following correction:

§52.1920 [Corrected]

On page 48080, in §52.1920(e), in the table, in the “Name of SIP provision” column, in the second entry, in the last line, “Reduciton” should read “Reduction”.

[FR Doc. C5-16192 Filed 9-6-05; 8:45 am]

BILLING CODE 1505-01-D